DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: This notice announces a meeting of the ARAC.

DATES: The meeting will be held on Thursday, December 12, 2019, from 1:00 p.m. to 3:00 p.m. Eastern Standard Time.

Requests to attend the meeting must be received by Thursday, November 21, 2019.

Requests for accommodations to a disability must be received by Thursday, November 21, 2019.

Persons requesting to speak during the meeting must submit a written copy of their remarks to the Designated Federal Officer (DFO) by Thursday, November 21, 2019.

Requests to submit written materials to be reviewed during the meeting must be received no later than Thursday, November 21, 2019.

ADDRESSES: The meeting will be held at the Federal Aviation Administration, 800 Independence Avenue SW, Washington, DC 20591. General committee information including copies of the meeting minutes will be available on the FAA Committee website at https://www.faa.gov/regulations_/policies/rulemaking/committees/documents/.

FOR FURTHER INFORMATION CONTACT: Lakisha Pearson, Federal Aviation Administration, 800 Independence Avenue SW, Washington, DC 20591, telephone (202) 267-4191; fax (202) 267-5075; email 9-awa-arac@faa.gov. Any committee related request should be sent to the person listed in this section.

SUPPLEMENTARY INFORMATION:

I. Background

The ARAC was created under the Federal Advisory Committee Act (FACA), in accordance with Title 5 of the United States Code (5 U.S.C. App. 2) to provide advice and recommendations to the FAA concerning rulemaking activities, such as aircraft operations, airman and air agency certification, airworthiness standards and certification, airports, maintenance, noise, and training.

II. Agenda

At the meeting, the agenda will cover the following topics:

• Status Report from the FAA

• Status Updates:

○ Active Working Groups

○ Transport Airplane and Engine (TAE) Subcommittee

• Recommendation Reports

• Any Other Business

A final agenda will be posted on the FAA Committee website at https://www.faa.gov/regulations_policies/rulemaking/committees/documents/ at least one week in advance of the meeting.

III. Public Participation

The meeting will be open to the public on a first-come, first-served basis, as space is limited. Please confirm your attendance with the person listed in the FOR FURTHER INFORMATION CONTACT section no later than November 21, 2019. Please provide the following information: Full legal name, country of citizenship, and name of your industry association, or applicable affiliation. If you are attending as a public citizen, please indicate so.

For persons participating by telephone, please contact the person listed in the FOR FURTHER INFORMATION CONTACT section by email or phone for the teleconference call-in number and passcode. Callers are responsible for paying long-distance charges.

The U.S. Department of Transportation is committed to providing equal access to this meeting for all participants. If you need alternative formats or services because of a disability, such as sign language, interpretation, or other ancillary aids, please contact the person listed in the FOR FURTHER INFORMATION CONTACT section.

There will be 15 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA Office of Rulemaking may conduct a lottery to determine the speakers. Speakers are requested to submit a written copy of their prepared remarks for inclusion in the meeting records and for circulation to ARAC members. All prepared remarks submitted on time will be accepted and considered as part of the record. Any member of the public may present a written statement to the committee at any time.

The public may present written statements to the Aviation Rulemaking Advisory Committee by providing 25 copies to the Designated Federal Officer, or by bringing the copies to the meeting.

Issued in Washington, DC, on October 18, 2019.
Brandon Roberts,
Acting Executive Director Office of Rulemaking.

[FR Doc. 2019-23738 Filed 10-30-19; 8:45 am]

BILLING CODE 4910-13-P